DEPARTMENT OF COMMERCE

International Trade Administration

[C-570-050]

Ammonium Sulfate From the People's Republic of China: Postponement of Preliminary Determination in the Countervailing Duty Investigation

AGENCY: Enforcement and Compliance, International Trade Administration, Department of Commerce.

DATES: Effective August 3, 2016.

FOR FURTHER INFORMATION CONTACT: Robert Galantucci at (202) 482-2923 or William Horn at (202) 482-2615, AD/CVD Operations, Enforcement and Compliance, International Trade Administration, Department of Commerce, 14th Street and Constitution Avenue NW., Washington, DC 20230.

SUPPLEMENTARY INFORMATION:

Background

On June 14, 2016, the Department of Commerce (the Department) initiated the countervailing duty (CVD) investigation of ammonium sulfate from the People's Republic of China.¹ The notice of initiation stated that, in accordance with section 703(b)(l) of the Tariff Act of 1930, as amended (the Act), and 19 CFR 351.205(b)(1), we would issue our preliminary determination no later than 65 days after the date of initiation, unless postponed. Currently, the preliminary determination is due no later than August 18, 2016.

¹ See Ammonium Sulfate From the People's Republic of China: Initiation of Countervailing Duty Investigation, 81 FR 40661 (June 22, 2016).

Postponement of the Preliminary Determination

Section 703(b)(1) of the Act, requires the Department to issue the preliminary determination in a CVD investigation within 65 days after the date on which the Department initiated the investigation. However, in accordance with 19 CFR 351.205(e), if the petitioner makes a timely request for an extension, section 703(c)(1)(A) of the Act allows the Department to postpone the preliminary determination until no later than 130 days after the date on which the Department initiated the investigation. Under 19 CFR 351.205(e), a petitioner must submit a request for postponement 25 days or more before the scheduled date of the preliminary determination and must state the reason for the request. The Department will grant the request unless it finds compelling reasons to deny the request.²

² See 19 CFR 351.205(e).

On July 22, 2016, PCI Nitrogen, LLC (Petitioner) submitted a timely request pursuant to section 703(c)(1)(A) of the Act and 19 CFR 351.205(e) to postpone the preliminary determination due to the number and complex nature of subsidy programs under investigation.³

³ See Letter from Petitioner to the Secretary of Commerce, “Ammonium Sulfate from the People's Republic of China: Request for Postponement of the Preliminary Determination,” dated July 22, 2016.

In accordance with 19 CFR 351.205(e), Petitioner has stated the reason for requesting a postponement of the preliminary determination and the record does not present any compelling reasons to deny Petitioner's request. Therefore, the Department will extend the deadline for completion of the preliminary determination by 65 days (i.e., 130 days after the date of initiation of this investigation). However, because 65 days following the current deadline falls on a Saturday, the new deadline is Monday, October 24, 2016.⁴ Pursuant to section 705(a)(l) of the Act and 19 CFR 351.210(b)(1), the deadline for the final determination will continue to be 75 days after the date of the preliminary determination.

⁴ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(l).

Dated: July 27, 2016.
Ronald K. Lorentzen,
Acting Assistant Secretary for Enforcement and Compliance.

[FR Doc. 2016-18416 Filed 8-2-16; 8:45 am]

BILLING CODE 3510-DS-P